DEPARTMENT OF ENERGY

Office of Energy Efficiency and Renewable Energy

Hydrogen Storage Engineering Center of Excellence Pre-Solicitation Meeting

AGENCY: Office of Energy Efficiency and Renewable Energy, Department of Energy (DOE).

ACTION: Notice of pre-solicitation meeting on October 15, 2007 in San Antonio, Texas.

SUMMARY: The Department of Energy (DOE) Hydrogen, Fuel Cells and Infrastructure Technologies Program is holding a pre-solicitation meeting on a planned Hydrogen Storage Engineering Center of Excellence on October 15, 2007 in San Antonio, Texas at the Henry B. Gonzalez Convention Center at 3:30 p.m. CDT. A Web cast will also be available for anyone unable to attend the meeting in person. Detailed information regarding the meeting location, Web cast, and the solicitation materials for comment will be updated on the DOE Web site, http://www.hydrogen.energy.gov/news_storage_center.html.

At the meeting, DOE seeks questions and comments from the public on the draft solicitation materials that will be posted on this Web site. This information will be used in determining the scope of work of this new center of excellence and the associated solicitation, otherwise known as a Funding Opportunity Announcement (FOA). Questions and comments will also be accepted via e-mail. All of the questions received (from the meeting and via e-mail) and the associated answers provided at the meeting will be posted on this Web site after the meeting.

DATES: Written questions and comments are welcome. These may be submitted via e-mail and must be received by 5 p.m. CDT on October 11, 2007. Questions will also be taken during the actual meeting on October 15, 2007.

ADDRESSES: Please submit all questions and comments to engineeringCoE@go.doe.gov.

FOR FURTHER INFORMATION CONTACT: Carole Read, U.S. Department of Energy, Office of Energy Efficiency and Renewable Energy, Mail Station EE-2H, 1000 Independence Avenue, SW., Washington, DC 20585-0121, Phone: (202) 586-3152, e-mail: carole.read@ee.doe.gov.

SUPPLEMENTARY INFORMATION: The mission of the DOE's Hydrogen Program is to research, develop and validate fuel cell and hydrogen production, delivery, and storage technologies so that hydrogen from diverse domestic resources can be used in a clean, safe, reliable and affordable manner in fuel cell vehicles, electric power generation and combined heat and power applications. A critical requirement for enabling hydrogen fuel cell vehicles to achieve mass market penetration is the development of on-board hydrogen storage systems with enough capacity to meet driving range expectations (more than 300 miles in the United States), while meeting a number of requirements such as weight, volume and cost. Detailed technical targets developed by DOE, with input through the FreedomCAR and Fuel Partnership, are available at: http://www1.eere.energy.gov/hydrogenandfuelcells/mypp/pdfs/storage.pdf.

For more information about the DOE Hydrogen Program and related on-board hydrogen storage activities visit the Program's Web site at http://www.hydrogen.energy.gov and http://www.eere.energy.gov/hydrogenandfuelcells.

Issued in Golden, CO on October 1, 2007.
Mary Foreman,
Procurement Director, DOE Golden Field Office.

[FR Doc. E7-19689 Filed 10-4-07; 8:45 am]

BILLING CODE 6450-01-P